DEPARTMENT OF COMMERCE

National Oceanic and Atmospheric Administration

[RTID 0648-XC465]

Taking and Importing Marine Mammals; Taking Marine Mammals Incidental to the Atlantic Shores Offshore Wind Energy Projects Offshore of New Jersey; Extension of Public Comment Period

AGENCY: National Marine Fisheries Service (NMFS), National Oceanic and Atmospheric Administration (NOAA), Commerce.

ACTION: Notice; extension of public comment period.

SUMMARY: The National Marine Fisheries Service (NMFS) is extending the public comment period on the Notice of Receipt (NOR) of Atlantic Shores' application under the Marine Mammal Protection Act (MMPA) requesting authorization to take marine mammals, by Level A harassment and Level B harassment, incidental to the Atlantic Shores Offshore Wind Energy Project, offshore of New Jersey. The comment period for the Notice of Receipt of Atlantic Shores' application that published on September 29, 2022 closes on October 31, 2022. At the request of a commenter, NMFS is extending the public comment period to provide the public with additional time to submit information and to comment on Atlantic Shores' application.

DATES: The comment period for the notice published on September 29, 2022, at 87 FR 59061, is extended. Comments and information must be received no later than November 15, 2022. Comments received prior to and between the close of the first public comment period and the end of the extended comment period will be considered timely received.

ADDRESSES: Comments on the applications should be addressed to Jolie Harrison, Chief, Permits and Conservation Division, Office of Protected Resources, National Marine Fisheries Service. Physical comments should be sent to 1315 East-West Highway, Silver Spring, MD 20910 and electronic comments should be sent to ITP.Potlock@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at https://www.fisheries.noaa.gov/permit/incidental-take-authorizations-under-marine-mammal-protection-act without change. All personal identifying information (e.g., name, address) voluntarily submitted by the commenter may be publicly accessible. Do not submit confidential business information or otherwise sensitive or protected information.

FOR FURTHER INFORMATION CONTACT: Kelsey Potlock, Office of Protected Resources, NMFS, (301) 427-8401. An electronic copy of Atlantic Shores' application may be obtained online at: https://www.fisheries.noaa.gov/permit/incidental-take-authorizations-under-marine-mammal-protection-act. In case of problems accessing these documents, please call the contact listed above.

SUPPLEMENTARY INFORMATION:

Background

On September 29, 2022, we published a Notice of Receipt (NOR) regarding an adequate and complete application received by Atlantic Shores, who has requested NMFS to authorize the taking of marine mammals incidental to the construction of two offshore wind energy projects located off of New Jersey in and around lease area OCS-A-0499 (87 FR 59061). The NOR allowed for a 30-day public comment period, which is scheduled to close on October 31, 2022. On October 3, 2022, we received a request from the Save Long Beach Island, Inc. Coalition for Wind Without Impact (Save LBI) for a 15-day extension of the public comment period. The request indicated that Save LBI needed more time to conduct their review of the available documents and provide comments. Given that the targeted publication date of the proposed rule is May 1, 2023 (per Title 41 of the Fixing America's Surface Transportation Act (FAST-41); https://www.permits.performance.gov/permitting-project/atlantic-shores-south) and the requested extension would not interfere with any of the intermediate milestones, NMFS has elected to provide additional time (15 additional days) for public comment.

NMFS is extending the public comment period from an original end date of October 31, 2022, (87 FR 59061) to November 15, 2022, per this notice. No information has changed and all information that was previously described in the Background section, the Summary of Request section, and the Specified Activities section of the prior notice (87 FR 59061, September 29, 2022) remain applicable to this notice and the activities proposed by Atlantic Shores. Furthermore, all information remains available to the public on NMFS' website (https://www.fisheries.noaa.gov/action/incidental-take-authorization-atlantic-shores-offshore-wind-llc-construction-atlantic-shores). All comments and information submitted previously regarding Atlantic Shores' projects will be fully considered in preparation of the proposed rule and do not need to be resubmitted.

Dated: October 25, 2022.
Kimberly Damon-Randall,
Director, Office of Protected Resources, National Marine Fisheries Service.

[FR Doc. 2022-23523 Filed 10-27-22; 8:45 am]

BILLING CODE 3510-22-P